DEPARTMENT OF COMMERCE

Foreign-Trade Zones Board

[B-70-2012]

Foreign-Trade Zone 265—Conroe, TX; Notification of Proposed Production Activity, Bauer Manufacturing Inc. (Pile Drivers and Boring Machinery); Conroe, TX

The City of Conroe, Texas, grantee of FTZ 265, submitted a notification of proposed production activity on behalf of Bauer Manufacturing Inc. (Bauer), located in Conroe, Texas. The notification conforming to the requirements of the regulations of the Foreign-Trade Zones Board (15 CFR 400.22) was received on September 12, 2012.

The Bauer facility is located within Site 1 of FTZ 265. The facility is used for the production of pile drivers and leads, boring machinery, foundation construction equipment, and related parts and sub-assemblies. Production under FTZ procedures could exempt Bauer from customs duty payments on the foreign status components used in export production. On its domestic sales, Bauer would be able to choose the duty rate during customs entry procedures that applies to pile drivers and leads, boring machinery, foundation construction equipment, and related parts and sub-assemblies (duty free) for the foreign status inputs noted below. Customs duties also could possibly be deferred or reduced on foreign status production equipment.

Components and materials sourced from abroad include: Petroleum oils and lubricants, paints/varnishes, glues/adhesives, ethylene monofilaments, propylene tubes/pipes/hoses, plastic tubes/pipes/hoses/fittings, self-adhesive plates/sheet/film/tape, stoppers/lids/caps, articles of plastic, rubber plates/sheets/tubes/hoses/pipes/gaskets/seals, leather goods, packing crates, decals, textile straps, mirrors, insulation, articles of steel (shapes, angles, bars, rods, sections, tubes, pipes, profiles, fittings, flanges, brackets, plate, wire, cable, hinges), chain, fasteners, springs, forged goods of steel, copper tubes/pipes/fittings/fasteners/profiles/cloth/netting, aluminum plates/sheets/strips, hand tools, drilling/boring components, pneumatic cylinders, flexible tubing, diesel engines and related parts, hydraulic engines/motors, pumps, compressors, turbochargers, air-conditioner components, heat exchangers, filters, fire extinguishers, hydraulic jacks/hoists, parts of boring/sinking machines, controllers, processors, electromechanical devices, valves, bearings, housings, electrical components, panels/boards, switches, transmissions and related parts, generators/alternators, gears, gearboxes, torque converters, flywheels, clutches, electronic components, lamps/lamp holders, wiring harnesses, magnets, batteries, lighting equipment, reception devices, horns, cameras/video equipment, radiators, exhaust systems and mufflers, measuring/testing instruments, seats, and paint/varnish brushes (duty rates range from free to 10.7%; 10.5¢/bbl; 1¢ ea. + 2.8%). The request indicates that all foreign steel products subject to an antidumping/countervailing duty (AD/CVD) order will be admitted to the zone in domestic (duty-paid) status (19 CFR 146.43).

Public comment is invited from interested parties. Submissions shall be addressed to the Board's Executive Secretary at the address below. The closing period for their receipt is October 30, 2012.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov, or (202) 482-1378.

Dated: September 13, 2012.
Elizabeth Whiteman,
Acting Executive Secretary.

[FR Doc. 2012-23141 Filed 9-19-12; 8:45 am]

BILLING CODE 3510-DS-P